OFFICE OF THE UNITED STATES TRADE REPRESENTATIVE

Generalized System of Preferences (GSP): Notice Regarding the Filing of Petitions Requesting Competitive Need Limitations (CNL) Waivers for the 2009 GSP Annual Review

AGENCY: Office of the United States Trade Representative.

ACTION: Notice.

SUMMARY: This notice affirms the previously announced deadline of November 17, 2009, for submission of petitions requesting: (1) Competitive Need Limitation (CNL) waivers; and (2) determinations regarding eligible products not produced in the United States on January 1, 1995. The list of petitions for such CNL waivers and determinations that are accepted for review, along with the date of public hearing, receipt of comments, and availability of U.S. International Trade Commission (USITC) advice, will be announced in the Federal Register at a later date.

FOR FURTHER INFORMATION CONTACT: Tameka Cooper, GSP Program, Office of the United States Trade Representative, 1724 F Street, NW., Washington, DC 20508. The telephone number is (202) 395-6971, the fax number is (202) 395-2961, and the e-mail address is Tameka_Cooper@ustr.eop.gov.

SUPPLEMENTARY INFORMATION: The GSP program provides for the duty-free importation of designated articles when imported from designated beneficiary developing countries. The GSP program is authorized by Title V of the Trade Act of 1974 (19 U.S.C. 2461, et seq.), as amended (the “1974 Act”), and is implemented in accordance with Executive Order 11888 of November 24, 1975, as modified by subsequent Executive Orders and Presidential Proclamations.

Competitive Need Limitations, Including Determinations of Eligible Products Not Produced in the United States as of January 1, 1995

Section 503(c)(2)(A) of the 1974 Act sets out the two competitive need limitations (CNLs). When the President determines that a beneficiary developing country exported to the United States during a calendar year either: (1) a quantity of a GSP-eligible article having a value in excess of the applicable amount for that year ($140 million for 2009), or (2) a quantity of a GSP-eligible article having a value equal to or greater than 50 percent of the value of total U.S. imports of the article from all countries (the “50-percent CNL”), the President must terminate GSP duty-free treatment for that article from that beneficiary developing country by no later than July 1 of the next calendar year.

Petitions To Waive the Competitive Needs Limitations

However, Section 503(d) of the 1974 Act sets forth the criteria under which the President may grant a waiver of the CNL for articles imported from specific beneficiary developing countries. (These limitations do not apply, by statute, either to least-developed beneficiary developing countries or AGOA beneficiary sub-Saharan African countries.) In addition, Section 503(c)(2)(E) of the 1974 Act provides that the 50-percent CNL shall not apply with respect to any eligible article if a like or directly competitive article was not produced in the United States on January 1, 1995.

Product petitions requesting CNL waivers for GSP-eligible articles from beneficiary developing countries that exceed the CNLs in 2009 must be filed in the 2009 Annual Review by November 17, 2009, in the manner described below. Each interested party is responsible for conducting its own review of 2009 import data to date with regard to the possible application of GSP CNLs. The USITC will make available January through September 2009 U.S. import data on November 13, 2009, on the Web site of the USITC at http://dataweb.usitc.gov. Any CNL exclusions will be based on full calendar-year 2009 import statistics; full calendar year 2009 data for individual tariff subheadings will be available in February 2010 on the Web site of the USITC.

Under section 503(c)(2)(F) of the 1974 Act, the President may also waive the 50 percent CNL with respect to an eligible article imported from a beneficiary developing country if the value of total imports of that article from all countries during the calendar year did not exceed the applicable de minimis amount for that year. Comments on de minimis waivers will not be accepted at this time but are expected to be requested after publication of a separate Federal Register notice following the availability of full 2009 calendar-year data.

Submission of Petitions Requesting Waivers of Competitive Needs Limitations (CNLs)

Interested parties, including foreign governments, may submit petitions to waive the “competitive need limitations” for individual beneficiary developing countries with respect to specific GSP-eligible articles. As announced in the May 28, 2009, Federal Register notice, petitions requesting CNL waivers, or determinations regarding production of a like or directly competitive product in the United States on January 1, 1995, must be received by the GSP Subcommittee of the Trade Policy Staff Committee no later than 5:00 p.m. on Tuesday, November 17, 2009, in order to be considered in the 2009 Annual Review. Petitions submitted after the deadline will not be considered for review. Filed petitions will be available for public review on http://www.regulations.gov/ after the November 17, 2009, deadline. The list of petitions accepted for review will be announced in the Federal Register at a later date.

As specified in 15 CFR 2007.1, all petitions requesting CNL waivers for GSP-eligible articles from beneficiary developing countries, or determinations regarding production of a like or directly competitive product in the United States on January 1, 1995, must include a detailed description of the product and the identification of the pertinent item number of the Harmonized Tariff Schedule of the United States (HTSUS) under which the product is classified. The HTSUS number for the relevant product should be provided at the 8-digit level. Furthermore, petitions should include on the first page of the petition the following information, in addition to identification of the “2009 Annual GSP Review”: (1) The requested action; (2) the HTSUS 8-digit subheading in which the product is classified; and (3) the beneficiary developing country.

Petitions requesting waivers of the “competitive need limitations” and determinations regarding whether a like or directly competitive product was produced in the United States on January 1, 1995, must meet the relevant information requirements listed in sections 2007.1(a) of the GSP regulations. Petitions requesting waivers of the CNLs must also meet the relevant information requirements listed in section 2007.1(c) of the GSP regulations.

Procedures for Submissions

Submissions in response to this notice, with the exception of business confidential submissions, must be submitted electronically by 5 p.m., Tuesday, November 17, 2009, using http://www.regulations.gov, docket number USTR-2009-0037. Instructions for submitting business confidential versions are provided below. Hand-delivered submissions will not be accepted. Submissions must be submitted to the Chairman of the GSP Subcommittee, Trade Policy Staff Committee, by the applicable deadlines set forth in this notice.

To make a submission using http://www.regulations.gov, enter docket number USTR-2009-0037 on the home page and click “Search.” The site will provide a search-results page listing all documents associated with this docket. Locate the reference to this notice by selecting “Notices” under “Document Type”. In the results table below, click on the “Send a Comment” link that corresponds to this notice. Follow the instructions given on the screen to submit the comment. The http://www.regulations.gov website offers the option of providing comments by filling in a “Type Comment” field or by attaching a document. While both options are acceptable, USTR prefers submissions in the form of an attachment.

Comments must be in English, with the total submission not to exceed 30 single-spaced standard letter-size pages in 12-point type, including attachments. Any data attachments to the submission should be included in the same file as the submission itself, and not as separate files.

Any person or party making a submission is strongly advised to review the GSP regulations and GSP Guidebook (available at: http://www.ustr.gov/Trade_Development/Preference_Programs/GSP/General_GSP_Program_Information/Section_Index.html).

Business Confidential Submissions

Persons wishing to submit business confidential information must submit that information by electronic mail to FR0807@ustr.eop.gov. Business confidential submissions will not be accepted at http://www.regulations.gov. For any document containing business confidential information submitted as a file attached to an e-mail transmission, the file name of the business confidential version should begin with the characters “BC.” The “BC” should be followed by the name of the party (government, company, union, association, etc.) that is making the submission.

If comments contain business confidential information that the submitter wishes to protect from public disclosure, the confidential submission must be marked “BUSINESS CONFIDENTIAL” at the top and bottom of each page of the submission. The submitter must include in the comments a written explanation of why the information should be protected in accordance with 15 CFR 2007.7(b).

In addition, the submission must be accompanied by a non-confidential version that is submitted to http://www.regulations.gov, docket number USTR-2009-0037 and indicates, with asterisks, where confidential information was redacted or deleted. The top and bottom of each page of the non-confidential version must be marked either “PUBLIC VERSION” or “NON-CONFIDENTIAL”.

Business confidential comments that are submitted without the required markings or that are not accompanied by a properly marked non-confidential version as set forth above may not be accepted or may be treated as public documents.

Marideth J. Sandler,
Executive Director, Generalized System of Preferences (GSP) Program and Chair, GSP Subcommittee, Office of the U.S. Trade Representative.

[FR Doc. E9-26409 Filed 11-2-09; 8:45 am]

BILLING CODE 3190-W0-P